DEPARTMENT OF THE INTERIOR

Fish and Wildlife Service

[FWS-R2-R-2017-N138]; FXRS12610200000-189-FF02RTTM00]

Application for Right of Way Permit for an Ethane Pipeline and Approved Compatibility Determination; San Bernard National Wildlife Refuge

AGENCY: Fish and Wildlife Service, Interior.

ACTION: Notice of availability; request for comments.

SUMMARY: We, the U.S. Fish and Wildlife Service, have received an application for a 30-year right-of-way (ROW) permit under the Migratory Bird Conservation Act from Lavaca Pipeline Company. The applicant wishes to install, own, and operate a natural gas pipeline within an existing ROW easement crossing 203 feet on San Bernard National Wildlife Refuge in Brazoria County, Texas. We request public comment on the permit application.

DATES: We must receive any written comments regarding the permit application on or before February 2, 2018.

ADDRESSES: If you wish to review documents and submit comments, you may request documents by U.S. mail, email, or phone (see below). Documents are also available for public inspection by appointment during normal business hours at the Texas Mid-coast Complex office below (open 8 a.m. to 4:30 p.m.). Send your comments or requests by any one of the following methods.

• Email: jennifer_sanchez@fws.gov (use “Lavaca ROW” as your message subject line).

• Fax: 979-964-4021 (“Lavaca ROW” subject line).

• U.S. mail: Project Leader, Texas Mid-coast Complex, U.S. Fish and Wildlife Service, 2547 County Road 316, Brazoria, TX 77422.

• In-person drop-off: You may drop off information during regular business hours, 8 a.m. to 4:30 p.m., at the above office address.

FOR FURTHER INFORMATION CONTACT: Jennifer Sanchez, 979-964-4011 (phone), or jennifer_sanchez@fws.gov (email).

SUPPLEMENTARY INFORMATION: There is also an approved compatibility determination available for review. Comments regarding the compatibility determination will be received and filed, but we will not be amending the document.

Applicant's Proposal

Lavaca Pipeline Company has requested to purchase a 30-foot-wide pipeline easement across a 203-foot-long section of the San Bernard National Wildlife Refuge NWR in Brazoria County, Texas. The (ROW) permit would enable the applicant to install, own, and operate a 16-inch-diameter steel pipeline to transport ethane gas. The requested ROW overlies an existing ROW easement, and the pipeline would be laid parallel to an already existing pipeline. The applicant's pipeline would be installed by means of a conventional bore technique under refuge land; therefore, the process would not require trenching on refuge lands. No additional easement boundaries beyond the existing ROW are required. The bore holes will be located 300 feet outside the refuge property line on adjacent private lands.

Background

Lavaca Pipeline Company is constructing a 16-inch-diameter pipeline for the transportation of ethane through Galveston, Brazoria, Matagorda, and Wharton Counties in Southeast Texas. Lavaca Pipeline is making efforts to co-locate the pipeline within existing pipeline ROW corridors. Lavaca Pipeline has requested to cross the San Bernard NWR along an existing ROW. Although a new ROW is being requested, an existing ROW and pipeline are already in place. The existing pipeline ROW is not an exclusive easement; therefore, additional ROWs and pipelines can be installed within the same cleared corridor. The requested permit would allow for the pipeline to cross a narrow (203-foot-wide) strip of refuge that connects two larger parcels and is commonly referred to as the Sulfur Ditch.

Compatibility Determination

In our compatibility determination, which was approved on July 26, 2017, we determined that placing the pipeline across this narrow (203-foot-wide) strip would minimize the impact to other refuge lands. Several options were evaluated, but it was determined that they would have resulted in greater impact than this proposal.

Public Availability of Comments

Written comments we receive become part of the public record associated with this action. Before including your address, phone number, email address, or other personal identifying information in your comment, you should be aware that your entire comment—including your personal identifying information—may be made publicly available at any time. While you may request in your comment that we withhold your personal identifying information from public review, we cannot guarantee that we will be able to do so. We will not consider anonymous comments. All submissions from organizations or businesses, and from individuals identifying themselves as representatives or officials of organizations or businesses, will be made available for public disclosure in their entirety.

Authority

We provide this notice under the Migratory Bird Conservation Act (16 U.S.C. 715d).

Dated: November 6, 2017.
Lueders,
Regional Director, Southwest Region, U.S. Fish and Wildlife Service.

[FR Doc. 2017-28385 Filed 1-2-18; 8:45 am]

BILLING CODE 4333-15-P